SECURITIES AND EXCHANGE COMMISSION

[File No. 500-1]

In the Matter of B.B. Walker Co., Bellatrix International, Inc., Belmont Resources, Inc., Beres Industries, Inc., Best Products Co., Inc., Bethlehem Corp., and Bogue Electric Manufacturing Co. (n/k/a Bogue International, Inc.); Order of Suspension of Trading

September 15, 2008.

It appears to the Securities and Exchange Commission that there is a lack of current and accurate information concerning the securities of B.B. Walker Co. because it has not filed any periodic reports since the period ended August 4, 2001.

It appears to the Securities and Exchange Commission that there is a lack of current and accurate information concerning the securities of Bellatrix International, Inc. because it has not filed any periodic reports since the period ended December 31, 1995.

It appears to the Securities and Exchange Commission that there is a lack of current and accurate information concerning the securities of Belmont Resources, Inc. because it has not filed any periodic reports since the period ended January 31, 2001.

It appears to the Securities and Exchange Commission that there is a lack of current and accurate information concerning the securities of Beres Industries, Inc. because it has not filed any periodic reports since the period ended December 31, 2002.

It appears to the Securities and Exchange Commission that there is a lack of current and accurate information concerning the securities of Best Products Co., Inc. because it has not filed any periodic reports since the period ended November 2, 1996.

It appears to the Securities and Exchange Commission that there is a lack of current and accurate information concerning the securities of Bethlehem Corp. because it has not filed any periodic reports since the period ended February 28, 2001.

It appears to the Securities and Exchange Commission that there is a lack of current and accurate information concerning the securities of Bogue Electric Manufacturing Co. (n/k/a Bogue International, Inc.) because it has not filed any periodic reports since the period ended September 30, 1998.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on September 15, 2008, through 11:59 p.m. EDT on September 26, 2008.

By the Commission.
Jill M. Peterson,
Assistant Secretary.

[FR Doc. E8-21830 Filed 9-15-08; 4:15 pm]

BILLING CODE 8010-01-P